INTERNATIONAL TRADE COMMISSION

[Investigation Nos. 701-TA-453 and 731-TA-1136-1137 (Second Review)]

Sodium Nitrite From China and Germany

Determination

On the basis of the record ¹ developed in the subject five-year reviews, the United States International Trade Commission (“Commission”) determines, pursuant to the Tariff Act of 1930 (“the Act”), that revocation of the antidumping and countervailing duty orders on sodium nitrite from China and the antidumping duty order on sodium nitrite from Germany would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on January 2, 2019 (84 FR 6) and determined on April 12, 2019 that it would conduct expedited reviews (84 FR 25828, June 4, 2019).

The Commission made these determinations pursuant to section 751(c) of the Act (19 U.S.C. 1675(c)). It completed and filed its determinations in these reviews on July 31, 2019. The views of the Commission are contained in USITC Publication 4936 (July 2019), entitled Sodium Nitrite from China and Germany: Investigation Nos. 701-TA-453 and 731-TA-1136-1137 (Second Review).

By order of the Commission.
Issued: July 31, 2019.
Lisa Barton,
Secretary to the Commission.

[FR Doc. 2019-16666 Filed 8-2-19; 8:45 am]

BILLING CODE 7020-02-P